DEPARTMENT OF COMMERCE

International Trade Administration

[A-583-830]

Certain Stainless Steel Plate in Coils From Taiwan: Rescission of Antidumping Duty Administrative Review; 2022-2023

AGENCY: Enforcement and Compliance, International Trade Administration, Department of Commerce.

SUMMARY: The U.S. Department of Commerce (Commerce) is rescinding the administrative review of the antidumping duty order on certain stainless steel plate in coils (SS plate in coils) from Taiwan for the period of review (POR) May 1, 2022, through April 30, 2023.

DATES: Applicable December 28, 2023.

FOR FURTHER INFORMATION CONTACT: Rebecca Janz, AD/CVD Operations, Office II, Enforcement and Compliance, International Trade Administration, U.S. Department of Commerce, 1401 Constitution Avenue NW, Washington, DC 20230; telephone: (202) 482-2972.

SUPPLEMENTARY INFORMATION:

Background

On May 2, 2023, Commerce published in the Federal Register a notice of opportunity to request an administrative review of the antidumping duty order on SS plate in coils from Taiwan.¹ On May 31, 2023, North American Stainless and Outokumpu Stainless USA, LLC, (the domestic interested parties) submitted a timely request that Commerce conduct an administrative review.²

¹ See Antidumping or Countervailing Duty Order, Finding, or Suspended Investigation; Opportunity to Request Administrative Review and Join Annual Inquiry Service List, 88 FR 27445 (May 2, 2023).

² See Domestic Interested Parties' Letter, “Domestic Interested Parties' Request for Initiation of Administrative Review,” dated May 31, 2023.

On July 12, 2023, Commerce published in the Federal Register a notice of initiation of administrative review with respect to imports of SS plate in coils exported and/or produced by the companies listed in the domestic interested parties' request for review, in accordance with section 751(a) of the Tariff Act of 1930, as amended (the Act), and 19 CFR 351.221(c)(1)(i).³ On July 12, 2023, we placed on the record U.S. Customs and Border Protection (CBP) data for entries of SS plate in coils from Taiwan during the POR, showing no reviewable entries, and invited interested parties to comment.⁴ No interested party submitted comments to Commerce.

³ See Initiation of Antidumping and Countervailing Duty Administrative Reviews, 88 FR 44262 (July 12, 2023).

⁴ See Memorandum, “Customs Entry Data from U.S. Customs and Border Protection,” dated July 12, 2023.

Additionally, on August 16, 2023, Commerce notified all interested parties of its intent to rescind the instant review in full because there were no reviewable, suspended entries of subject merchandise by any of the companies subject to this review during the POR and invited interested parties to comment.⁵ No interested party submitted comments to Commerce.

⁵ See Commerce's Letter, “Notice of Intent to Rescind Review,” dated August 16, 2023

Rescission of Review

Pursuant to 19 CFR 351.213(d)(3), it is Commerce's practice to rescind an administrative review of an antidumping duty order when there are no reviewable entries of subject merchandise during the POR for which liquidation is suspended.⁶ Normally, upon completion of an administrative review, the suspended entries are liquidated at the antidumping duty assessment rate calculated for the review period.⁷ Therefore, for an administrative review to be conducted, there must be at least one reviewable, suspended entry that Commerce can instruct CBP to liquidate at the antidumping duty assessment rate calculated for the review period.⁸ As noted above, there were no entries of subject merchandise for any of the companies subject to this review during the POR. Accordingly, in the absence of suspended entries of subject merchandise during the POR, we are hereby rescinding this administrative review, in its entirety, in accordance with 19 CFR 351.213(d)(3).

⁶ See, e.g., Dioctyl Terephthalate from the Republic of Korea: Rescission of Antidumping Administrative Review; 2021-2022, 88 FR 24758 (April 24, 2023); see also Certain Carbon and Alloy Steel Cut-to Length Plate from the Federal Republic of Germany: Recission of Antidumping Administrative Review; 2020-2021, 88 FR 4157 (January 24, 2023).

⁷ See 19 CFR 351.212(b)(1).

⁸ See 19 CFR 351.213(d)(3).

Assessment

Commerce will instruct CBP to assess antidumping duties on all appropriate entries. Antidumping duties shall be assessed at rates equal to the cash deposit of estimated antidumping duties required at the time of entry, or withdrawal from warehouse, for consumption, in accordance with 19 CFR 351.212(c)(1)(i). Commerce intends to issue assessment instructions to CBP no earlier than 35 days after the date of publication of this rescission notice in the Federal Register.

Administrative Protective Order

This notice serves as the only reminder to parties subject to administrative protective order (APO) of their responsibility concerning the disposition of proprietary information disclosed under APO in accordance with 19 CFR 351.305(a)(3). Timely written notification of the return or destruction of APO materials or conversion to judicial protective order is hereby requested. Failure to comply with the regulations and terms of an APO is a violation subject to sanction.

Notification to Interested Parties

This notice is issued and published in accordance with sections 751(a)(1) and 777(i)(1) of the Act, and 19 CFR 351.213(d)(4).

Dated: December 6, 2023.
James Maeder,
Deputy Assistant Secretary for Antidumping and Countervailing Duty Operations.

[FR Doc. 2023-28686 Filed 12-27-23; 8:45 am]

BILLING CODE 3510-DS-P